DEPARTMENT OF AGRICULTURE

Rural Utilities Service

[Docket No. RUS-23-Telecom-RUS-23-TELECOM-0010]

60-Day Notice of Proposed Information Collection: Rural eConnectivity (ReConnect) Program; OMB Control No.: 0572-0152

AGENCY: Rural Utilities Service, USDA.

ACTION: Notice; request for comments.

SUMMARY: In accordance with the Paperwork Reduction Act of 1995, as amended, the United States Department of Agriculture (USDA), Rural Utilities Service (RUS) announces its' intention to request an extension of a currently approved information collection and invites comments on this information collection.

DATES: Comments on this notice must be received by July 25, 2023 to be assured of consideration.

ADDRESSES: Comments may be submitted electronically by the Federal eRulemaking Portal: Go to http://www.regulations.gov and, in the “Search Field” box, labeled “Search for dockets and documents on agency actions,” enter the following docket number: “0572-0152” then click search. To submit or view public comments, select the following document title: (60-Day Notice of Proposed Information Collection: Rural eConnectivity (ReConnect) Program; OMB Control No.: 0572-0152) from the “Search Results,” and select the “Comment” button. Before inputting your comments, you may also review the “Commenter's Checklist” (optional). Insert your comments under the “Comment” title, click “Browse” to attach files (if available). Input your email address and select “Submit Comment.” Information on using Regulations.gov, including instructions for accessing documents, submitting comments, and viewing the docket after the close of the comment period, is available through the site's “FAQ” link.

Other Information: Additional information about Rural Development and its programs is available on the internet at http://www.rurdev.usda.gov/index.html.

All comments will be available for public inspection online at the Federal eRulemaking Portal (http://www.regulations.gov).

FOR FURTHER INFORMATION CONTACT: Crystal Pemberton, Management Analyst, Branch 1, Rural Development Innovation Center—Regulations Management Division, United States Department of Agriculture, 1400 Independence Avenue SW, South Building, Washington, DC 20250-1522. Telephone: (202) 260-8621. Email: Crystal.Pemberton@usda.gov.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see, 5 CFR 1320.8(d)). This notice identifies the following information collection that RUS is submitting to OMB as extension to an existing collection with Agency adjustment.

Title: Rural eConnectivity (ReConnect) Program.

OMB Control Number: 0572-0152.

Expiration Date of Approval: December 31, 2023.

Type of Request: Extension of a currently approved information collection.

Estimate of Burden: Public reporting for this collection of information is estimated to average 325 hours per response.

Respondents: Not-for-profit institutions and other businesses.

Estimated Number of Respondents: 480.

Estimated Number of Responses per Respondent: 59.

Estimated Total Annual Burden on Respondents: 156,090 hours.

Abstract: The ReConnect Program was authorized by the Consolidated Appropriations Act, 2018 (Pub. L. 115-141), which directed the program to be conducted under the Rural Electrification Act of 1936 (7 U.S.C. 901, et seq.). The program has received successive appropriations by Congress and has matured due to Agency experience, feedback, and comments provided by stakeholders.

The ReConnect Program provides loans, grants, and loan/grant combinations to facilitate broadband deployment in rural areas. Loans and grants are furnished to provide funds for the costs of construction, improvement, or acquisition of facilities and equipment needed to provide broadband service in eligible rural areas. In facilitating the expansion of broadband services and infrastructure, the program fuels long-term rural economic development and opportunities across rural America. The eligibility requirements, application process, and criteria that RUS uses to assess applicants' creditworthiness for the ReConnect Program are published at 7 CFR 1740 subpart B. For a proposed funded service area to be eligible for funding, at least 90 percent of the households in the proposed funded service area must lack sufficient access to broadband.

Comments are invited on:

(a) Whether the collection of information is necessary for the proper performance of the functions of the agency, including whether the information will have practical utility;

(b) the accuracy of the agency's estimate of the burden of the collection of information including the validity of the methodology and assumptions used;

(c) ways to enhance the quality, utility and clarity of the information to be collected; and

(d) ways to minimize the burden of the collection of information on respondents, including through the use of appropriate automated, electronic, mechanical, or other technological collection techniques or other forms of information technology. All responses to this notice will be summarized and included in the request for OMB approval. All comments will become a matter of public record.

Copies of this information collection can be obtained from Crystal Pemberton, Rural Development Innovation Center—Regulations Management Division, at (202) 260-8621. Email: Crystal.Pemberton@usda.gov. All responses to this notice will be summarized and included in the request for OMB approval. All comments will also become a matter of public record.

Andrew Berke,
Administrator, Rural Utilities Service.

[FR Doc. 2023-11310 Filed 5-25-23; 8:45 am]

BILLING CODE 3410-15-P